ENVIRONMENTAL PROTECTION AGENCY

[FRL-9943-28-Region 6]

Clean Air Act Operating Permit Program; Petition for Objection to State Operating Permit for Southwestern Electric Power Company H.W. Pirkey Power Plant in Texas

AGENCY: Environmental Protection Agency (EPA).

ACTION: Notice of final action.

SUMMARY: Pursuant to Clean Air Act (CAA) Section 505(b)(2) and 40 CFR 70.8(d), the Environmental Protection Agency (EPA) Administrator signed an Order, dated February 3, 2016, granting in part and denying in part the petition asking EPA to object to an operating permit issued by the Texas Commission on Environmental Quality for the Southwestern Electric Power Company (SWEPCO) H.W. Pirkey Power Plant (Title V operating permit number O31). The EPA's February 3, 2016 Order responds to the petition, dated October 30, 2014, submitted by the Environmental Integrity Project (EIP) and Sierra Club. Sections 307(b) and 505(b)(2) of the CAA provide that a petitioner may ask for judicial review by the United States Court of Appeals for the appropriate circuit of those portions of the Order that deny issues raised in the petition. Any petition for review shall be filed within 60 days from the date this notice appears in the Federal Register, pursuant to section 307(b) of the CAA.

ADDRESSES: You may review copies of the final Order, the petition, and other supporting information at EPA Region 6, 1445 Ross Avenue, Dallas, Texas 75202-2733. Contact the individual listed below to view documents. You may view the hard copies Monday through Friday, from 9:00 a.m. to 3:00 p.m., excluding Federal holidays. If you wish to examine these documents, you should make an appointment at least 24 hours before the visiting day. Additionally, the final February 3, 2016 Order is available electronically at: http://www.epa.gov/title-v-operating-permits/order-responding-2014-petition-requesting-administrator-object-title-v.

FOR FURTHER INFORMATION CONTACT: Aimee Wilson at (214) 665-7596, email address: wilson.aimee@epa.gov or the above EPA, Region 6 address.

SUPPLEMENTARY INFORMATION: The CAA affords EPA a 45-day period to review, and object, as appropriate, to a title V operating permit proposed by a state permitting authority. Section 505(b)(2) of the CAA authorizes any person to petition the EPA Administrator, within 60 days after the expiration of this review period, to object to a title V operating permit if EPA has not done so. Petitions must be based only on objections to the permit that were raised with reasonable specificity during the public comment period provided by the state, unless the petitioner demonstrates that it was impracticable to raise such objections during the comment period or unless the grounds for the objection arose after this period.

The Petitioners maintain that the SWEPCO title V operating permit is inconsistent with the Act based on the following contentions: (1) The proposed permit for the Pirkey Power Plant impermissibly provides for exemptions from title V applicable requirements during planned maintenance, startup, and shutdown (MSS) activities; and (2) the proposed permit must clarify that credible evidence may be used by citizens to enforce the terms and conditions of the permit. The claims are described in detail in Section IV of the Order.

Pursuant to sections 505(b) and 505(e) of the Clean Air Act (42 U.S.C. 7661d(b) and (e)) and 40 CFR 70.7(g) and 70.8(d), the Texas Commission on Environmental Quality (TCEQ) has 90 days from the receipt of the Administrator's order to resolve the objections identified in Claim 1 of the Order and submit a proposed determination or termination, modification, or revocation and reissuance of the SWEPCO title V permit in accordance with EPA's objection. The Order issued on February 3, 2016 responds to the Petition and explains the basis for EPA's decision.

Dated: February 24, 2016.
Ron Curry,
Regional Administrator, Region 6.

[FR Doc. 2016-04752 Filed 3-2-16; 8:45 am]

BILLING CODE 6560-50-P